DEPARTMENT OF DEFENSE

Department of the Army

Army National Cemeteries Advisory Commission (ANCAC)

AGENCY: Department of the Army, DoD.

ACTION: Notice of open committee meeting.

SUMMARY: Pursuant to the Federal Advisory Committee Act of 1972 (5 U.S.C., Appendix, as amended), the Sunshine in the Government Act of 1976 (U.S.C. 552b, as amended) and 41 Code of the Federal Regulations (CFR 102-3. 140 through 160), the Department of the Army announces the following committee meeting:

Name of Committee: Army National Cemeteries Advisory Commission.

Date of Meeting: Thursday, December 1, 2011.

Time of Meeting: 9 a.m.-4 p.m.

Place of Meeting: Women in Service to America Memorial, Conference Room, Arlington National Cemetery, Arlington, VA.

Proposed Agenda: Purpose of the meeting is to finalize committee membership and appointment; formalize committee business rules, review proposed topics for review and discussion and set the proposed calendar for follow-on meetings.

Public's Accessibility to the Meeting: Pursuant to 5 U.S.C. 552b and 41 CFR 102-3.140 through 102-3.165, and the availability of space, this meeting is open to the public. Seating is on a first-come basis.

FOR FURTHER INFORMATION CONTACT: Lieutenant Colonel Renea Yates; renea-yates@us.army.mil or 571.256.4325.

SUPPLEMENTARY INFORMATION: The following topics are on the initial agenda for discussion:

○ Active burial space at Arlington National Cemetery

○ Section 60 Mementos study

○ Preserving the Tomb of the Unknown Soldier

The Commission's mission is to provide the Secretary of Defense, through the Secretary of the Army, independent advice and recommendations on the Army National Cemeteries Program, including, but not limited to:

a. Management and operational issues, including bereavement practices;

b. Plans and strategies for addressing long-term governance challenges;

c. Resource planning and allocation; and

d. Any other matters relating to Army National Cemeteries that the Commission's co-chairs, in consultation with the Secretary of the Army, may decide to consider.

Filing Written Statement: Pursuant to 41 CFR 102-3.140d, the Committee is not obligated to allow the public to speak; however, interested persons may submit a written statement for consideration by the Commission. Written statements must be received by the Designated Federal Officer at the following address: Army National Cemeteries Advisory Commission, attn: Designated Federal Officer (DFO) (LTC Yates), Arlington National Cemetery, Arlington, Virginia 22211 not later than 5 p.m., Monday, November 28, 2011. Written statements received after this date may not be provided to or considered by the Army National Cemeteries Advisory Commission until the next open meeting. The Designated Federal Officer will review all timely submissions with the Commission Chairperson and ensure they are provided to the members of the Army National Cemeteries Advisory Commission.

Brenda S. Bowen,
Army Federal Register Liaison Officer.

[FR Doc. 2011-29411 Filed 11-14-11; 8:45 am]

BILLING CODE 3710-08-P